DEPARTMENT OF AGRICULTURE

Forest Service

36 CFR Part 251

RIN 0596-AB57

Land Uses; Revenue-Producing Visitor Services in Alaska

Correction

In rule 03-14630 beginning on page 35115 in the issue of Wednesday, June 11, 2003 make the following correction:

On page 35115, the agency titled “Department of the Interior” should read, “ Department of Agriculture”.

[FR Doc. C3-14630 Filed 6-20-03; 8:45 am]

BILLING CODE 1505-01-D

DEPARTMENT OF DEFENSE

Office of the Secretary

Privacy Act of 1974; System of Records

Correction

In notice document 03-14815 beginning on page 35203 in the issue of Thursday, June 12, 2003, make the following correction:

On page 35204, in the first column, above the heading “System name:” add the following heading:

“DGC 21”.

[FR Doc. C3-14815 Filed 6-20-03; 8:45 am]

BILLING CODE 1505-01-D

DEPARTMENT OF ENERGY

Western Area Power Administration

Proposed Rates for Pick-Sloan Missouri Basin Program-Eastern Division

Correction

In notice document 03-14949 beginning on page 35402 in the issue of Friday, June 13, 2003, make the following correction:

On page 35403, in the second column, under the heading addresses, in the 11th line, “Default.html” should read, “Default.htm”.

[FR Doc. C3-14949 Filed 6-20-03; 8:45 am]

BILLING CODE 1505-01-D

DEPARTMENT OF TRANSPORTATION

Federal Aviation Administration

14 CFR Part 25

[Docket No. NM81; Notice No. 25-03-04-SC]

Special Conditions: Boeing Model 777 Series Airplanes; Revision to Special Conditions 25-ANM-84

Correction

In proposed rule document 03-14992 beginning on page 35335 in the issue of Friday, June 13, 2003 make the following correction:

On page 35344, starting in the first column, paragraphs (e)(6) and (e)(7) should be presented in italics as set forth below:

PART 25—[CORRECTED]

(6) Engine Demonstration Test. One engine of each type to be certificated with the airplane must complete 3000 equivalent airplane operational cycles. The engine must be configured with a complete airplane nacelle package for this demonstration, including engine-mounted equipment except for any configuration differences necessary to accommodate test instrumentation and test stand interfaces with the engine nacelle package. At completion of the engine demonstration test, the engine and airplane nacelle test hardware must undergo a complete teardown inspection. This inspection must be conducted in a manner to identify abnormal conditions that could become potential sources of engine inflight shutdown. An analysis of any abnormal conditions found must consider the possible consequences of similar occurrences in service to determine if they may become sources of engine inflight shutdowns, power loss, or inability to control engine thrust. Any potential sources of engine inflight shutdown identified must be corrected in accordance with paragraph (g)(2).

(7) Airplane Demonstration Test. In addition to the function and reliability testing required by 14 CFR 21.35(b)(2), for each engine type to be certificated with the airplane, one or more airplanes must complete flight testing which demonstrates that the aircraft, its components, and equipment, are capable of and function properly during long range operations and airplane diversions, including engine-inoperative diversions.

(i) The flight conditions must expose the airplane to representative operational variations based on the airplane's system and equipment design and the intended use of the airplane including:

(A) Engine inoperative maximum length diversions to demonstrate the airplane and propulsion system's capability to safely conduct a diversion.

(B) Non-normal conditions to demonstrate the airplane's capability to safely divert under worst case probable system failure conditions.

(C) Simulated airline operations including normal cruise altitudes, step climbs, and maximum expected flight durations out of and into a variety of departure and arrival airports.

(D) Diversions to worldwide airports representative of those intended as operational alternates.

(E) Repeated exposure to humid and inclement weather on the ground followed by long-range operation at normal cruise altitude.

(ii) The flight testing must validate expected airplane flying qualities and performance considering engine failure, electrical power losses, etc. The testing must demonstrate the adequacy of remaining airplane systems and performance and flightcrew ability to deal with an emergency considering remaining flight deck information following expected failure conditions.

(iii) The engine-inoperative diversions must be evenly distributed among the number of engines in the applicant's flight test program.

(iv) The test airplane(s) must be operated and maintained using the recommended operations and maintenance manual procedures during the airplane demonstration test.

(v) At completion of the airplane demonstration test, the test engines and engine-mounted equipment must undergo a complete external on-wing visual inspection. The engines must also undergo a complete internal visual inspection. These inspections must be conducted in a manner to identify abnormal conditions that could become potential sources of engine inflight shutdowns. An analysis of any abnormal conditions found must consider the possible consequences of similar occurrences in service to determine if they may become sources of engine inflight shutdowns. Any potential sources of engine inflight shutdown that are identified must be corrected in accordance with paragraph (g)(2).

[FR Doc. C3-14992 Filed 6-20-03; 8:45 am]

BILLING CODE 1505-01-D

DEPARTMENT OF VETERANS AFFAIRS

38 CFR Part 21

RIN 2900-AL17

Increase in Rates Payable Under the Montgomery GI Bill—Active Duty and Survivors' and Dependents' Educational Assistance Program

Correction

In rule document 03-14282 beginning on page 34319 in the issue of Monday, June 9, 2003, make the following corrections:

§21.3131 [Corrected]

1. On page 34321, in §21.3131, in the first table, under the column titled, “Monthly rate”, the sixth line should read, “608.00”.

2. On the same page, in the same section, in the same table, under the same column, the seventh line should be blank.

3. On the same page, in the same section, in the second table, under the column titled “Monthly rate”, the sixth line should read, “670.00”.

§21.3333 [Corrected]

4. On page 34322, in § 21.3333(a)(2), in the second column, in the second line, “December 31, 2002” should read, “December 31, 2001”

§21.7136 [Corrected]

5. On page 34324, in §21.7136(c)(7), in the first column, in the table, in the column titled “Monthly rate”, in the second line, “402.00” should read, “402.60”.

[FR Doc. C3-14282 Filed 6-20-03; 8:45 am]

BILLING CODE 1505-01-D